OFFICE OF THE UNITED STATES TRADE REPRESENTATIVE

Determination Relating to the Generalized System of Preferences

AGENCY: Office of the United States Trade Representative.

ACTION: Notice.

SUMMARY: The United States Trade Representative (USTR) has determined that the effective date of certain modifications to the Harmonized Tariff Schedule of the United States (HTS) that the President proclaimed in Proclamation 7454 of June 29, 2001, relating to the eligibility of certain products of India under the Generalized System of Preferences (GSP) program shall be the date of publication of this notice in the Federal Register.

FOR FURTHER INFORMATION CONTACT: Elena Bryan, Director for India and Indochina Affairs, Office of the United States Trade Representative, (202) 395-6813.

SUPPLEMENTARY INFORMATION: Under the GSP program, imports of many products of designated beneficiary developing countries enter the United States duty-free. (19 U.S.C. 2461 et seq.) In Proclamation 7454 of June 29, 2001 (66 FR 35365 (July 5, 2001)), the President modified the eligibility of certain products of India for duty-free treatment under the GSP program. The President (1) Redesignated certain products of India that previously were not eligible for duty-free treatment under the GSP program because imports of these products from India had exceeded the statutory “competitive need limitations” (CNLs); (2) granted “de minimis” CNL waivers to India for certain products; and (3) granted full CNL waivers to India for certain other products.

Annex III of Proclamation 7454 sets forth the modifications to the HTS that are necessary to implement these changes. Proclamation 7454 delegated to the USTR the authority to determine the effective date of these HTS modifications and directed the USTR to announce that date in the Federal Register. Accordingly, pursuant to the authority vested in me by Proclamation 7454, I have determined that the modifications to the HTS set forth in Annex III of Proclamation 7454 shall be effective with respect to articles entered, or withdrawn from warehouse for consumption, on or after the date of publication of this notice in the Federal Register.

Robert B. Zoellick,
United States Trade Representative.

[FR Doc. 01-21157 Filed 8-21-01; 8:45 am]

BILLING CODE 3190-01-M